DEPARTMENT OF DEFENSE

Office of the Secretary

[Transmittal Nos. 13-49]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-49 with attached transmittal, policy justification, and Sensitivity of Technology.

Dated: October 17, 2013.
Aaron Siegel,
Alternate OSD Federal Register Liaison Officer, Department of Defense.

BILLING CODE 5001-06-P

Transmittal No. 13-49

Notice of Proposed Issuance of Letter of Offer Pursuant to Section 36(b)(l) of the Arms Export Control Act

(i) Prospective Purchaser: Kingdom of Saudi Arabia.

(ii) Total Estimated Value:

* As defined in Section 47(6) of the Arms Export Control Act.

Major Defense Equipment* | $4.1 billion
Other | $2.7 billion
Total | $6.8 billion

(iii) Description and Quantity or Quantities of Articles or Services under Consideration for Purchase: 650 AGM-84H Standoff Land Attack Missiles—Expanded Response (SLAM-ER), 973 AGM-154C Joint Stand Off Weapon (JSOW), 400 AGM-84L Harpoon Block II missiles, 1000 GBU-39/B Small Diameter Bomb (SDB) with BRU-61 carriage systems, 40 CATM-84H Captive Air Training Missiles (CATM), 20 ATM-84H SLAM-ER Telemetry Missiles, 4 Dummy Air Training Missiles, 60 AWW-13 Data Link pods, 10 JSOW CATMs, 40 Harpoon CATMs, 20 ATM-84L Harpoon Exercise Missiles, 36 SDB Captive Flight and Load Build trainers, containers, mission planning, integration support and testing, munitions storage security and training, weapon operational flight program software development, transportation, tools and test equipment, support equipment, spare and repair parts, publications and technical documentation, personnel training and training equipment, U.S. Government and contractor engineering and logistics support services, and other related elements of logistics support.

(iv) Military Department: Air Force (YBD) and Navy (ABS).

(v) Prior Related Cases, if any:

FMS case SAI-$8.4B-24Dec11

FMS case SAN-$8.8B-24Dec11

FMS case SAO-$3.8B-24Dec11

FMS case SAP-$8.3B-24Dec11

(vi) Sales Commission, Fee, etc., Paid, Offered, or Agreed to be Paid: None.

(vii) Sensitivity of Technology Contained in the Defense Article or Defense Services Proposed to be Sold: See Annex attached.

(viii) Date Report Delivered to Congress: 11 October 2013.

POLICY JUSTIFICATION

Saudi Arabia—Various Munitions and Support

The Government of Saudi Arabia has requested a possible sale of 650 AGM-84H Standoff Land Attack Missiles—Expanded Response (SLAM-ER), 973 AGM-154C Joint Stand Off Weapons (JSOW), 400 AGM-84L Harpoon Block II missiles, 1000 GBU-39/B Small Diameter Bombs (SDB), 40 CATM-84H Captive Air Training Missiles (CATM), 20 ATM-84H SLAM-ER Telemetry Missiles, 4 Dummy Air Training Missiles, 60 AWW-13 Data Link pods, 10 JSOW CATMs, 40 Harpoon CATMs, 20 ATM-84L Harpoon Exercise Missiles, 36 SDB Captive Flight and Load Build trainers, containers, mission planning, integration support and testing, munitions storage security and training, weapon operational flight program software development, transportation, tools and test equipment, support equipment, spare and repair parts, publications and technical documentation, personnel training and training equipment, U.S. Government and contractor engineering and logistics support services, and other related elements of logistics support. The estimated total cost is $ 6.8 billion.

This proposed sale will contribute to the foreign policy and national security of the United States by helping to improve the security of a friendly country that has been and continues to be an important force for political stability in the Middle East.

This proposed sale will improve Saudi Arabia's capability to meet current and future regional threats. These munitions will strengthen the effectiveness and interoperability of the air force of a potential coalition partner, enhancing the coalition operation. In December 2011, Saudi Arabia signed a letter of offer and acceptance (LOA) to purchase 84 new and 70 refurbished F-15SA multi-role fighter aircraft and associated weapons. The armaments in this request are separate and distinct from those in the F-15SA LOA, but are intended for that platform. Saudi Arabia will have no difficulty absorbing these weapons into its armed forces.

The proposed sale of these weapon systems will not alter the basic military balance in the region.

The principal contractors will be The Boeing Company in St. Louis, Missouri; Raytheon in Indianapolis, Indiana; and Raytheon in Tucson, Arizona. There are no known offset agreements proposed in connection with this potential sale.

Implementation of this sale will require the assignment of approximately 2-4 additional U.S. Government or contractor representatives to Saudi Arabia. The actual number and duration will be determined in joint negotiations as the program proceeds through the development, production, and equipment installation phases.

There will be no adverse impact on U.S. defense readiness as a result of this proposed sale.

Transmittal No. 13-49

Notice of Proposed Issuance of Letter of Offer Pursuant to Section 36(b)(1) of the Arms Export Control Act

Annex—Item No. vii

(vii): Sensitivity of Technology

1. The AGM-84H Standoff Land Attack Missile-Expanded Response (SLAM-ER) is a non-nuclear tactical weapon system currently in service in the U.S. Navy and two other foreign nations. It provides a day, night, and adverse weather, standoff air-to-surface capability. SLAM-ER is a follow on to the SLAM missile that is no longer in production. It is a variant of the Harpoon missile that uses the Maverick Imaging Infrared (IIR) seeker, Global Positioning System-Precise Positioning System (GPS/PPS) for improved navigation, proprietary automatic target acquisition, planar wings, and a new warhead. SLAM-ER is effective against a wide range of land-based targets and has a secondary anti-ship mission capability. The missile is classified as Confidential.

2. The SLAM-ER incorporates components, software, and technical design information that are considered sensitive. The following SLAM-ER components being conveyed by the proposed sale that are considered sensitive and are classified Confidential include-Imaging Infrared (IIR) seeker, the Global Positioning System/Inertial Navigation System (GPS/INS), Operational Flight Program (OFP) Software, Missile operational characteristics and performance data.

3. The AGM-154 JSOW is used by Navy, Marine Corps, and Air Force, and allows aircraft to attack well-defended targets in day, night, and adverse weather conditions. The AGM-154C carries a BROACH warhead. The BROACH warhead incorporates an advanced multi stage warhead. The JSOW uses the GPS Precise Positioning System (PPS), which provides for a more accurate capability than the commercial version of GPS.

4. The JSOW incorporates components, software, and technical design information that are considered sensitive. The following JSOW-C components being conveyed by the proposed sale that are considered sensitive and are classified Confidential include the GPS/INS, IIR seeker, INS OFP software and missile operational characteristics and performance data. These elements are essential to the ability of the JSOW-C missile to selectively engage hostile targets under a wide range of operational, tactical, and environmental conditions.

5. The AGM-84L Harpoon missiles is a non-nuclear tactical weapon system currently in service in the U.S. Navy and in 28 other foreign nations. It provides a day, night, and adverse weather conditions, standoff air-to-surface capability. Harpoon Block II is a follow on to the Harpoon missile that is no longer in production. Harpoon Block II is an effective Anti-Surface Warfare missile. The version being proposed for Saudi Arabia includes Coastal Target Suppression (CTS). The missiles are classified as Confidential.

6. The AGM-84L incorporates components, software, and technical design information that are considered sensitive. The following Harpoon components being conveyed by the proposed sale that are considered sensitive and are classified Confidential include-the Radar seeker, GPS/INS, OFP Software, missile operational characteristics and performance data.

7. The GBU-39/B Small Diameter Bomb (SDB) I weapon is a 250-lb class, all-up round (AUR) that provides greater than 50nm standoff range. SDB I is a day or night, adverse weather, precision engagement capability against pre-planned fixed or stationary soft, non-hardened, and hardened targets. The warhead has a high-strength steel penetration design with a blast or fragmentation capability containing approximately 36 pounds of high explosives. SDB I is a Global Positioning System (GPS) guided weapon aided by Inertial Navigation System (INS).

8. The SDB I includes an integrated height of burst (HoB) sensor that provides the weapon with an airburst capability.

9. A key component of the SDB system is the weapon planning module (WPM). The module is hosted on the Joint Mission Planning System (JMPS). The WPM provides unit-level planners and intelligence personnel a means of importing target location data, programming desired fuzing parameters, and computing release and impact conditions (or using defaults) for the employment of each weapon. This weapon planning data is saved to the aircraft data transfer device (DTD) for download into the aircraft avionics and subsequently passed to the carriage and weapon upon initialization.

10. Logistics components consist of training equipment, technical data, sustainment spares, shipping and storage containers, and a test adapter unit for the Common Munitions BIT and Reprogramming Equipment (CMBRE) or CMBRE Plus. The GBU-39/B SDB I is Unclassified.

11. The BRU-61/A carriage system consists of a four-place rack with a self-contained pneumatic charging and accumulator section. Four ejector assemblies hold the individual weapons. Internal avionics and wire harnesses connect the carriage system to the aircraft and to the individual weapons. The carriage avionics assembly provides the interface between the individual stores and the aircraft for targeting, GPS keys, alignment, fuze settings, and weapon release sequence information. A MIL-STD-1760 umbilical, using a MIL-STD-1760 Class II primary interface signal set connects the carriage system to the aircraft. Each ejector station has a Joint Miniature Munitions Interface (JMMI) umbilical which provides the electrical and logical interface to the individual weapons.

12. If a technologically advanced adversary were to obtain knowledge of the specific hardware in the proposed sale, the information could be used to develop countermeasures which might reduce weapons system effectiveness or be used in the development of a system with similar or advanced capabilities. In order to mitigate this possibility, the USG, in conjunction with Saudi Arabia, has developed a robust protocol of handling and storage procedures that maximizes security of the munitions, minimizes the opportunity for unauthorized disclosure of sensitive information, with the net effect of preserving the capability and effectiveness of the munitions for the USG and our international partners.

[FR Doc. 2013-24623 Filed 10-21-13; 8:45 am]

BILLING CODE 5001-06-P